DEPARTMENT OF VETERANS AFFAIRS

Capital Asset Realignment for Enhanced Services (CARES) Commission; Notice of Meeting

The Department of Veterans Affairs (VA) gives notice under Pub. L. 92-463 (Federal Advisory Committee Act) that the Capital Asset Realignment for Enhanced Services (CARES) Commission will meet on August 6-7, 2003, at the Hyatt Regency Crystal City, 2799 Jefferson Davis Highway, Arlington, VA 22202. The meeting will begin at 8:30 a.m. each day and end at 5 p.m. on August 6 and at 12:30 p.m. on August 7. The meeting is open to the public.

The purpose of the Commission is to conduct an external assessment of VA's capital asset needs. The Commission will consider recommendations prepared by VA's Under Secretary for Health, and veterans service organizations, individual veterans, Congress, medical school affiliates, VA employees, local government entities, community groups and others. Following its assessment, the Commission will make specific recommendations to the Secretary of Veterans Affairs regarding the realignment and allocation of capital assets necessary to meet the demands for veterans health care services over the next 20 years.

The August meeting is the fifth public meeting of the Commission. On the morning of August 6, the Commission will decide whether the CARES projection Model is a reasonable model for the purpose for which it was used. During the rest of the meeting, the Commission will be briefed on the Draft National Plan.

No time will be allocated at these meetings for receiving oral presentations from the public. However, interested persons may attend and/or file statements with the Commission. Written statements may be filed either before the meeting or within 10 days after the meeting and addressed to: Department of Veterans Affairs, CARES Commission (OOCARES), 810 Vermont Avenue, NW., Washington, DC 20420. Any member of the public wishing addition information should contact Mr. Richard E. Larson, Executive Director, CARES Commission, at (202) 501-2000.

Dated: July 10, 2003.
By Direction of the Secretary.
E. Philip Riggin,
Committee Management Officer.

[FR Doc. 03-18234 Filed 7-17-03; 8:45 am]

BILLING CODE 8320-01-M